DEPARTMENT OF HEALTH AND HUMAN SERVCES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer on (240) 276-1243.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project—Strategic Prevention Framework State Incentive Grant (SPF SIG) Program, Cohorts IV and V—NEW

The Substance Abuse and Mental Health Services Administration's (SAMHSA) Center for Substance Abuse Prevention (CSAP) requests OMB approval to collect community outcomes data for the cross-site evaluation of the Strategic Prevention Framework State Incentive Grant (SPF SIG) program, Cohorts IV and V. CSAP has previously funded two cross-site evaluations of the Strategic Prevention Framework State Incentive Grant (SPF SIG), one focused on Cohorts I and II and the other on Cohorts III, IV, and V. Collectively, these evaluations provide an important opportunity to inform the prevention field on current practices and their association with community- and state-level outcomes.

Data are collected at the grantee, community, and participant levels. The collection of community outcomes data is the focus of the current request. The primary cross-site evaluation objective is to determine the impact of SPF SIG on building prevention capacity and infrastructure, and preventing the onset and reducing the progression of substance abuse, as measured by the SAMHSA National Outcome Measures (NOMs).

The SPF SIG grant program is a major investment by the federal government to improve substance abuse prevention systems and enhance the quality of prevention programs, primarily through the implementation of the SPF process. The goal of this initiative is to provide states, jurisdictions, tribal entities, and the communities within them with the tools necessary to develop an effective prevention system with attention to the processes, directions, goals, expectations, and accountabilities necessary for functionality. SAMHSA/CSAP needs to collect information over the course of the remaining grant period to monitor the progress of the SPF SIG initiative. CSAP will use the findings from the analysis of the community outcomes data in the cross-site evaluation to assess the impact of SPF activities on community-level outcomes.

Annualized Data Collection Burden
Instrument | Number of respondents | Responses per respondent | Total number of responses | Burden hours per response | Total burden hours
Community Outcomes Module | 34 | 1 | 34 | 4 | 136

Send comments to Summer King, SAMHSA Reports Clearance Officer, Room 2-1057, One Choke Cherry Road, Rockville, MD 20857 OR email her a copy at summer.king@samhsa.hhs.gov. Written comments should be received by February 2, 2016.

Summer King,
Statistician.

[FR Doc. 2015-30596 Filed 12-3-15; 8:45 am]

BILLING CODE 4162-20-P